DEPARTMENT OF JUSTICE

Immigration and Naturalization Service

8 CFR Part 217

[INS No. 2188-02; AG ORDER No. 2561-2002]

RIN 1115-AB93

Termination of the Designation of Argentina as a Participant Under the Visa Waiver Program

Correction

In rule document 02-4260 beginning on page 7943 in the issue of Thursday, February 21, 2002, make the following correction:

On page 7944, in the first column, under the heading Why is Argentina's Designation in the VWP Being Terminated?, in the ninth line “Nationalization” should read, “Naturalization”.

[FR Doc. C2-4260 Filed 3-5-02; 8:45 am]

BILLING CODE 1505-01-D